DEPARTMENT OF JUSTICE

Office of Justice Programs

[OJP (OJJDP) Docket No. 1652]

Hearing of the Advisory Committee of the Attorney General's Task Force on American Indian/Alaska Native Children Exposed to Violence

AGENCY: Office of Juvenile Justice and Delinquency Prevention (OJJDP), Justice.

ACTION: Notice of hearing.

SUMMARY: This is an announcement of the third hearing of the Advisory Committee of the Attorney General's Task Force on American Indian/Alaska Native Children Exposed to Violence (hereafter referred to as the AIAN Advisory Committee). The AIAN Advisory Committee is chartered to provide the Attorney General with valuable advice in the areas of American Indian/Alaska Native children's exposure to violence for the purpose of addressing the epidemic levels of exposure to violence faced by tribal youth. Based on the testimony at four public hearings, on comprehensive research, and on extensive input from experts, advocates, and impacted families and tribal communities nationwide, the AIAN Advisory Committee will issue a final report to the Attorney General presenting its findings and comprehensive policy recommendations in the fall of 2014.

DATES: This third hearing will take place on Wednesday, April 16, 2014 from 1:00 p.m.-6:30 p.m. and Thursday, April 17, 2014 from 8:30 a.m.-12:00 p.m. A post-hearing debrief session will take place on Thursday, April 17, 2014 from 1:00 p.m.-6:00 p.m.

ADDRESSES: The hearing will take place at the Hyatt Regency Pier Sixty-Six, Panorama Ballroom, 2301 SE. 17th Street, Fort Lauderdale, FL 33316. Phone: (954) 525-6666.

FOR FURTHER INFORMATION CONTACT: Jim Antal, AIAN Advisory Committee Designated Federal Officer (DFO) and Deputy Associate Administrator, Youth Development, Prevention and Safety Division, Office of Juvenile Justice & Delinquency Prevention, Office of Justice Programs, 810 7th Street NW., Washington, DC 20531. Phone: (202) 514-1289 [note: this is not a toll-free number]; email: james.antal@usdoj.gov.

SUPPLEMENTARY INFORMATION: This hearing is being convened to provide information to the AIAN Advisory Committee about the issue of American Indian/Alaska Native children's exposure to violence. The focus for this third hearing will be on American Indian Children Exposed to Violence in the Community. The final agenda is subject to adjustment, but it is anticipated that on April 16, 2014, there will be an afternoon session and on April 17, 2014, there will be a morning session. The agenda for the afternoon session on April 16, 2014 will likely include welcoming remarks and introductions, and panel presentations from invited guests on topics focused on American Indian Children Exposed to Violence in the Community. The agenda for the morning session on April 17, 2014, will likely include presentations from witnesses invited to brief the AIAN Advisory Committee on community violence issues faced by American Indian Children, and existing programs that attempt to address this issue. It is anticipated there will be scheduled opportunities for public testimony at the end of both days of the hearing, including an opportunity for public comment during an open microphone session just prior to the conclusion of both days of the hearing. On April 17th, there will be a post-hearing debrief session that will include a review of material presented during the previous day and planning for subsequent hearings. The debrief session will not have an opportunity for public comment; however both the public hearing and the debrief meeting are open to the public.

Those wishing to provide scheduled oral public testimony on either day of the hearing should register through the registration link at www.justice.gov/defendingchildhood at least seven (7) days in advance of the meeting. The scheduled public oral testimony will be accepted on a space available basis. Those wishing to provide oral testimony during the open microphone session, which will likely occur just prior to the conclusion of both days of the hearing, may register through the registration link at www.justice.gov/defendingchildhood or register onsite April 16 and 17, 2014 at the registration desk. Prior registration is encouraged.

Those wishing to provide written testimony for this third hearing should register and submit their written testimony at www.justice.gov/defendingchildhood. Those wishing to provide written testimony not specific to this third hearing can simply send their written testimony to testimony@tlpi.org on an ongoing basis. Written testimony will also be accepted onsite April 16 and 17, 2014 at the registration desk.

Anyone requiring special accommodations should notify Mr. Antal at james.antal@usdoj.gov at least seven (7) days in advance of the meeting.

Jeffrey Gersh,
Deputy Associate Administrator, Youth Development, Prevention and Safety Division, Office of Juvenile Justice and Delinquency Prevention, Office of Justice Programs.

[FR Doc. 2014-06989 Filed 3-27-14; 8:45 am]

BILLING CODE 4410-18-P